FEDERAL COMMUNICATIONS COMMISSION

Public Information Collection Approved by Office of Management and Budget

January 27, 2003.

The Federal Communications Commission (FCC) has received Office of Management and Budget (OMB) approval for the following public information collections pursuant to the Paperwork Reduction Act of 1995, Public Law 104-13. For further information contact Judith Boley Herman, Federal Communications Commission, (202) 418-0214.

Federal Communications Commission

OMB Control No.: 3060-1031.

Expiration Date: 07/31/2003.

Title: Revision of the Commission's Rules to Ensure Compatibility with Enhanced 911.

Emergency Calling Systems: Petition of City of Richardson, Texas: Order on Reconsideration II.

Form No.: N/A.

Respondents: Business or other for-profit; public safety agencies.

Responses: 1,358.

Estimated Time Per Response: 2-40 hours.

Estimated Total Annual Burden: 13,960 hours.

Total Annual Cost: 0.

Description: The information and coordination burdens are needed to ensure the appropriate application of the Commission's E911 rules and to facilitate speedy E911 implementation.

Federal Communications Commission.
Marlene H. Dortch,
Secretary.

[FR Doc. 03-2370 Filed 1-31-03; 8:45 am]

BILLING CODE 6712-01-P